DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has granted or denied the application described herein.

DATES: Comments must be received on or before October 6, 2025.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington DC.

This notice of receipt of applications for special permit is published in accordance with part 107 of the Federal hazardous materials transportation law (49 U.S.C. 5117(b); 49 CFR 1.53(b)).

Issued in Washington, DC, on September 2, 2025.
Donald P. Burger,
Chief, General Approvals and Permits Branch.

Application No. | Applicant | Regulation(s) affected | Nature of the special permits thereof
Special Permits Data—Granted
15577-M | Olin Winchester LLC | 172.101(i)(3) | To modify the special permit to authorize transportation between additional Olin Winchester facilities.
16413-M | Amazon.com, Inc | 171.22(b)(2), 171.24(d), 171.25(b), 172.315, 173.25, 173.306, 173.159a(c)(2), 173.185(c)(1)(iii), 173.185(c)(1)(iv), 173.185(c)(3) | To modify the special permit to exempt overpacks and packages from marking requirements and to authorize a copy of the special permit to be maintained at the headquarters office.
16606-M | 5-State Helicopters, Inc | 172.101(j), 172.200, 172.301(c), 172.302(c), 173.27(b)(2), 175.30, 175.30(a)(1) | To modify the special permit to authorize an additional hazardous material.
20260-M | Rogers Helicopters, Inc | 172.101(j), 172.200, 172.200(a), 172.204(c)(3), 172.300, 172.300(a), 172.301(c), 172.400(b), 172.400a(a), 173.27(b)(2), 175.75(b), 175.75(c), 178.1010(a)(1) | To modify the special permit to authorize operations with a single pilot aboard a multi-engine aircraft carrying explosives.
20333-M | Antonov JSC | 172.101(j), 172.203(a), 172.301(c), 173.27(b)(2), 175.30(a)(1) | To modify the special permit to increase the maximum weight authorized.
20443-M | Northrop Grumman Systems Corporation | 172.101(j), 173.301(f), 173.302a(a)(1), 173.304a(a)(2) | To modify the special permit to authorize additional packagings and an increased number of tanks installed in a satellite.
20645-M | Walmart Inc | 173.159a(c)(2), 173.185(c)(1)(iii), 173.185(c)(1)(iv), 173.185(c)(1)(v), 173.185(c)(3) | To modify the special permit to authorize an additional packaging type.
21222-M | Bren-Tronics, Inc | 172.101(j), 173.185(b)(1) | To modify the special permit to authorize an additional battery design.
21607-M | Amazon.com, Inc | 172.200(b)(3), 172.315(a)(2), 176.30 | To modify the special permit to authorize use by third-party logistics providers that utilize the grantee's hazardous materials classification system and customer fulfillment technologies in the Amazon Fulfillment Network.
21751-M | New Pig Corporation | 172.200, 172.300, 172.400, 172.600, 172.700(a), 173.185(c)(1)(iii), 173.185(f) | To modify the special permit to not require testing of the batteries and cells and having a state of charge limitation.
21924-N | Antech Systems, Inc | 180.205(g) | To authorize the transportation in commerce of the Composite Overwrapped Pressure Vessels (COPV), listed in paragraph 7. when Modal Acoustic Emission (MAE) Examination is used in lieu of the internal visual inspection and hydrostatic test as required in § 180.205 and the relevant special permits.
21932-N | EnerVenue, Inc | 173.301(f), 173.302(a) | To authorize the transportation in commerce of non-DOT specification cylinders (battery receptacles) containing compressed flammable gas.
21970-M | Call2Recycle, Inc | 173.185(f) | To modify the permit to authorize an additional transportation location.
22002-N | United Brands Products Design Development and Marketing, Inc | 173.301(a)(11), 173.301b(c)(1) | To authorize the transportation in commerce of certain DOT specification or UN cylinders containing nitrous oxide that use an alternative valve standard.
22007-N | EXOLaunch, Inc | 173.301(f)(1), 173.304(a) | To authorize the transportation in commerce of non-DOT specification pressure vessels containing nitrous oxide without a pressure relief device.
22031-N | Store and Plus, Corp | 171.2(k), 172.200, 172.300, 172.400, 172.500, 172.700(a) | To authorize the transportation in commerce of certain DOT 3AL, TC/3ALM, and UN ISO 7866 cylinders that contain carbon dioxide, with alternative hazard communication.
22034-N | Exel Inc | 173.4a(g)(2) | To authorize the transportation in commerce of excepted quantities of isopropanol solution using a reduced size (50 mm by 50 mm) excepted quantity mark when transported via motor vehicle or rail.
22052-N | Northrop Grumman Systems Corporation | 172.203(a), 172.301(c), 173.302a(a)(1), 173.304a(a)(1) | To authorize a 5-year extension to the service life of cylinders manufactured under DOT-SP 8162.
22076-N | Northrop Grumman Systems Corporation | 173.56(b), 173.62(a) | To authorize the transportation in bulk quantities of unapproved waste explosive substances (large propellant slugs) unpackaged to a site for disposal.
22081-N | U.S. Environmental Protection Agency, Region 9 | 173.150(b) | To authorize the transportation of expired, unsecured, and improperly stored hand sanitizer from two locations.
Special Permits Data—Denied
Special Permits Data—Withdrawn
21922-M | Archer Aviation Inc | 172.101(j), 173.185(e) | To modify the special permit to authorize an additional packaging.
22063-N | Arcwood Environmental, LLC | 173.12(c)(2) | To authorize the transportation in commerce by rail freight of previously used drums for the shipment of waste material transported for disposal or recovery.
22071-M | Environmental Protection Agency | 172.301(c), 172.320, 173.51(a), 173.54(a), 173.56(b) | To modify the special permit to authorize transportation of the hazard materials outside of the authorized hours.

[FR Doc. 2025-17018 Filed 9-4-25; 8:45 am]

BILLING CODE P